DEPARTMENT OF LABOR

Mine Safety and Health Administration

30 CFR Parts 7 and 75

RIN 1219-AB79

Refuge Alternatives for Underground Coal Mines

AGENCY: Mine Safety and Health Administration, Labor.

ACTION: Request for information; extension of comment period.

SUMMARY: In response to requests from interested parties, the Mine Safety and Health Administration (MSHA) is extending the comment period on the Agency's Request for Information (RFI) on Refuge Alternatives for Underground Coal Mines. This extension gives interested parties additional time to review research reports and other relevant information.

DATES: Comments must be received by midnight Eastern Daylight Saving Time on October 2, 2014.

ADDRESSES: Submit comments and supporting documentation by any of the following methods:

• Federal E-Rulemaking Portal: http://www.regulations.gov. Follow the on-line instructions for submitting comments for Docket Number MSHA-2013-0033.

• Electronic mail: zzMSHA-comments@dol.gov. Include “RIN 1219-AB79” in the subject line of the message.

• Mail: Send comments to MSHA, Office of Standards, Regulations, and Variances, 1100 Wilson Boulevard, Room 2350, Arlington, Virginia 22209-3939.

• Hand Delivery or Courier: MSHA, Office of Standards, Regulations, and Variances, 1100 Wilson Boulevard, Room 2350, Arlington, Virginia, between 9:00 a.m. and 5:00 p.m. Monday through Friday, except Federal holidays. Sign in at the receptionist's desk on the 21st floor.

Instructions: Clearly identify all submissions with “RIN 1219-AB79”. Because comments will not be edited to remove any identifying or contact information, MSHA cautions the commenter against including information in the submission that should not be publicly disclosed.

FOR FURTHER INFORMATION CONTACT: Sheila A. McConnell, Deputy Director, Office of Standards, Regulations, and Variances, MSHA, at mcconnell.sheila.a@dol.gov (email); 202-693-9440 (voice); or 202-693-9441 (facsimile).

SUPPLEMENTARY INFORMATION: On August 8, 2013 (78 FR 48593), MSHA published a Request for Information on Refuge Alternatives for Underground Coal Mines. The RFI comment period was originally scheduled to close on October 7, 2013. In response to requests from the public, MSHA extended the comment period to December 6, 2013 (78 FR 58264) and again to June 2, 2014 (78 FR 73471) to allow interested parties time to review National Institute for Occupational Safety and Health (NIOSH) studies that bear on certain issues raised in the RFI.

MSHA received a request for an additional 120-day extension of the comment period to allow the public to consider NIOSH research reports on refuge alternatives. In response, MSHA is extending the comment period to October 2, 2014.

MSHA also reminds the mining community that after April 9, 2015, in accordance with 42 CFR 84.301, previously NIOSH-approved self-contained self-rescue devices (SCSRs) will no longer be manufactured and sold as NIOSH approved. MSHA encourages the mining community to submit information on how NIOSH's revised requirements for approval of closed-circuit escape respirators (CCER) under 42 CFR Part 84 would affect their responses to the In-Place Shelter and Escape Methodology sections in the RFI on refuge alternatives. This extension provides the mining community additional time to submit comments on CCERs.

Dated: May 28, 2014.
Joseph A. Main,
Assistant Secretary of Labor for Mine Safety and Health.

[FR Doc. 2014-12749 Filed 6-2-14; 8:45 am]

BILLING CODE 4510-43-P